INTERNATIONAL TRADE COMMISSION

[Inv. No. 337-TA-778]

In the Matter of Certain Equipment for Communications Networks, Including Switches, Routers, Gateways, Bridges, Wireless Access Points, Cable Modems, IP Phones, and Products Containing Same; Notice of Institution of Investigation; Institution of Investigation Pursuant to 19 U.S.C. 1337

AGENCY: U.S. International Trade Commission.

ACTION: Notice.

SUMMARY: Notice is hereby given that a complaint was filed with the U.S. International Trade Commission on May 17, 2011, under section 337 of the Tariff Act of 1930, as amended, 19 U.S.C. 1337, on behalf of MOSAID Technologies Inc. of Canada. Letters supplementing the complaint were filed on June 6 and June 7, 2011. The complaint alleges violations of section 337 based upon the importation into the United States, the sale for importation, and the sale within the United States after importation of certain equipment for communications networks, including switches, routers, gateways, bridges, wireless access points, cable modems, IP phones, and products containing same by reason of infringement of certain claims of U.S. Patent No. 7,035,280 (“the `280 patent”); U.S. Patent No. 7,292,600 (“the `600 patent”); U.S. Patent No. 7,830,858 (“the `858 patent”); U.S. Patent No. 6,842,459 (“the `459 patent”); U.S. Patent No. 7,633,966 (“the `966 patent”); and U.S. Patent No. 5,841,360 (“ the `360 patent”). The complaint further alleges that an industry in the United States exists as required by subsection (a)(2) of section 337.

The complainant requests that the Commission institute an investigation and, after the investigation, issue an exclusion order and cease and desist orders.

ADDRESSES: The complaint, except for any confidential information contained therein, is available for inspection during official business hours (8:45 a.m. to 5:15 p.m.) in the Office of the Secretary, U.S. International Trade Commission, 500 E Street, SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its Internet server at http://www.usitc.gov. The public record for this investigation may be viewed on the Commission's electronic docket (EDIS) at http://edis.usitc.gov.

FOR FURTHER INFORMATION CONTACT: The Office of Unfair Import Investigations, U.S. International Trade Commission, telephone 202-205-2560.

Authority: The authority for institution of this investigation is contained in section 337 of the Tariff Act of 1930, as amended, and in section 210.10 of the Commission's Rules of Practice and Procedure, 19 CFR 210.10 (2011).

Scope of Investigation: Having considered the complaint, the U.S. International Trade Commission, on June 15, 2011, ordered that—

(1) Pursuant to subsection (b) of section 337 of the Tariff Act of 1930, as amended, an investigation be instituted to determine whether there is a violation of subsection (a)(1)(B) of section 337 in the importation into the United States, the sale for importation, or the sale within the United States after importation of certain equipment for communications networks, including switches, routers, gateways, bridges, wireless access points, cable modems, IP phones, and products containing same that infringe one or more of claims 1, 5, 9, 11-13, 15, 18, 19, 23, 27, 30, 31, 36, 43, 45, 46, and 51 of the `280 patent; claims 12, 13, 17, 18, 44-46, 50-53, 57, 58, 83, and 139 of the `600 patent; claims 34-39, 111-114, 118, 120-131 of the `858 patent; claims 15-17 and 20-25 of the `459 patent; claims 1, 3, 5, 6, and 9 of the `966 patent; and claims 1, 6, and 9 of the `360 patent, and whether an industry in the United States exists as required by subsection (a)(2) of section 337;

(2) For the purpose of the investigation so instituted, the following are hereby named as parties upon which this notice of investigation shall be served:

(a) The complainant is: MOSAID Technologies Inc., 11 Hines Road, Suite 203, Ottawa, ON K2K 2X1, Canada.

(b) The respondents are the following entities alleged to be in violation of section 337, and are the parties upon which the complaint is to be served:

Cisco Systems, Inc., 170 West Tasman Drive, San Jose, CA 95134-1706;

Cisco Consumer Products LLC, 120 Theory Drive, Irvine, CA 92617.

Cisco Systems International B.V., Harrlerbergweg 13-19, Amsterdam, 1101 CH, Netherlands.

Scientific Atlanta LLC, 5030 Sugarloaf Parkway, Lawrenceville, GA 30044.

(c) The Office of Unfair Import Investigations, U.S. International Trade Commission, 500 E Street, SW., Suite 401, Washington, DC 20436; and

(3) For the investigation so instituted, the Honorable Paul J. Luckern, Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: June 16, 2011.
James R. Holbein.
Secretary to the Commission.

[FR Doc. 2011-15365 Filed 6-20-11; 8:45 am]

BILLING CODE 7020-02-P